DEPARTMENT OF AGRICULTURE

Forest Service

Shasta County Resource Advisory Committee (RAC)

AGENCY: Forest Service, USDA.

ACTION: Notice of meeting.

SUMMARY: The Shasta County Resource Advisory Committee (RAC) will meet on October 29, 2003, in Redding, California. The purpose of the meeting will be to hear presentations from applicants proposing projects, review project proposals, and receive reports from working committees.

DATES: The meeting will be held on October 29, 2003, from 8 a.m. to noon.

ADDRESSES: The meeting will be held at Northern California Service Center, 6101 Airport Road.

FOR FURTHER INFORMATION CONTACT: Kevin McIver, coordinator, USDA Forest Service, (530) 242-2494. E-mail: kmciver@fs.fed.us.

SUPPLEMENTARY INFORMATION: The meeting is open to the public. Discussion is limited to Forest Service staff and committee members. However, time will be provided for public input, giving individuals the opportunity to address the committee.

Dated: October 14, 2003.
J. Sharon Heywood,
Forest Supervisor.

[FR Doc. 03-26364 Filed 10-17-03; 8:45 am]

BILLING CODE 3410-11-M